RECOVERY ACCOUNTABILITY AND TRANSPARENCY BOARD

4 CFR Chapter II

Removal of Recovery Accountability and Transparency Board Regulations

AGENCY: Recovery Accountability and Transparency Board.

ACTION: Final rule.

SUMMARY: The Recovery Accountability and Transparency Board (Board) previously issued regulations pertaining to the Privacy Act of 1974, Public Information and Requests, and the Board's Official Seal. These are the only Board issued regulations codified in the Code of Federal Regulations. On September 30, 2015, the Board is required by the American Recovery and Reinvestment Act of 2009, as amended, to terminate. After that date, because the Board will cease to exist, there will be no need for the Board's regulations. Accordingly, this final rule removes the Board's regulations from the Code of Federal Regulations effective September 30, 2015.

DATES: This rule is effective September 30, 2015.

FOR FURTHER INFORMATION CONTACT: Atticus J. Reaser, General Counsel, (202) 254-7900.

SUPPLEMENTARY INFORMATION:

Background Information

Chapter II of Title 4 of the Code of Federal Regulations contains all regulations previously issued by the Board, including: (1) Regulations pertaining to the Privacy Act of 1974 in Part 200; (2) regulations pertaining to Public Information and Requests in Part 201; and (3) regulations pertaining to the Board's Official Seal in Part 202. These are the only Board issued regulations codified in the Code of Federal Regulations. Section 1530 of the Board's enabling legislation, the American Recovery and Reinvestment Act of 2009, Public Law 111-5, as amended, requires that the Board terminate on September 30, 2015. After that date, because the Board will cease to exist, there will be no need for the Board's regulations or Chapter II of Title 4 of the Code of Federal Regulations. Through this final rule, the Board's regulations and Chapter II of Title 4 are removed from the Code of Federal Regulations effective September 30, 2015.

Administrative Procedure Act

Pursuant to 5 U.S.C. 553(b), the Board finds good cause exists for waiving the general notice of proposed rulemaking and opportunity for public comment as to this rule. Notice and comment before the effective date are being waived because this rule and the resulting removal of the Board's regulations arise out of a matter regarding which the Board has no discretion—namely, the termination of the Board on September 30, 2015. As the Board has no discretion, public comment is unnecessary.

Executive Orders 12866 and 13563

The Board has reviewed this rule to ensure its consistency with the regulatory philosophy and principles set forth in Executive Orders 12866 and 13563. The Board has determined that this rule is non-significant within the meaning of Executive Order 12866. Therefore, this rule is not required to be and has not been reviewed by the Office of Management and Budget.

Regulatory Flexibility Act

These proposed regulations will not have a significant economic impact on a substantial number of small entities. Therefore, a regulatory flexibility analysis as provided by the Regulatory Flexibility Act, as amended, is not required.

Paperwork Reduction Act

These proposed regulations impose no additional reporting and recordkeeping requirements. Therefore, clearance by the Office of Management and Budget is not required.

Federalism (Executive Order 13132)

This rule does not have Federalism implications, as set forth in Executive Order 13132. It will not have substantial direct effects on the States, on the relationship between the national government and the States, or on the distribution of power and responsibilities among the various levels of government.

Congressional Review Act

The Board has determined that this rule is not a major rule as defined by the Congressional Review Act, 5 U.S.C. 804. The rule is being submitted to both Houses of Congress and the Comptroller General in accordance with the Congressional Review Act.

List of Subjects

4 CFR Part 200

Administrative practice and procedure, Privacy, Reporting and recordkeeping requirements.

4 CFR Part 201

Administrative practice and procedure, Freedom of information, Reporting and recordkeeping requirements.

4 CFR Part 202

Official seal.

For the reasons set forth in the preamble and pursuant to sec. 1530, Public Law. 111-5, 123 Stat. 115 (as amended) and general rulemaking authority, the Recovery Accountability and Transparency Board amends title 4 of the Code of Federal Regulations by removing Chapter II in its entirety, consisting of parts 200, 201, and 202.

4 CFR Chapter II [Removed]

Dated: June 16, 2015.
Kathleen S. Tighe,
Chair, Recovery Accountability and Transparency Board.

[FR Doc. 2015-15359 Filed 6-23-15; 8:45 am]

BILLING CODE 6821-15-P